POSTAL SERVICE

39 CFR Part 20

Electronic Transmission of Customs Data—Outbound International Letter-Post Items

AGENCY: Postal Service™.

ACTION: Final rule with comment period.

SUMMARY: The Postal Service is revising the Mailing Standards of the United States Postal Service, International Mail Manual (IMM®) to require that customs data be electronically transmitted for international letter-post mailpieces bearing a customs declaration form when the items are paid with a permit imprint.

DATES: Effective Date: November 5, 2012. We must receive your comments on or before September 24, 2012.

ADDRESSES: Mail or deliver written comments to the manager, Product Classification, U.S. Postal Service®, 475 L'Enfant Plaza SW., Room 4446, Washington, DC 20260-5015. You may inspect and photocopy all written comments at USPS® Headquarters Library, 475 L'Enfant Plaza SW., 11th Floor N., Washington, DC between 9 a.m. and 4 p.m., Monday through Friday. Email comments, containing the name and address of the commenter, may be sent to MailingStandards@usps.gov, with a subject line of “Electronic Transmission of Customs Data.” Faxed comments are not accepted.

FOR FURTHER INFORMATION CONTACT: Rick Klutts at 813-877-0372.

SUPPLEMENTARY INFORMATION: In the final rule published on December 5, 2011 (76 FR 75786-75794), the Postal Service announced that, effective January 22, 2012, mailers paying the retail price would no longer be permitted to enter Express Mail International® or Priority Mail International® items bearing a permit imprint at a business mail entry unit (BMEU) since the information contained on the customs declaration was not electronically transmitted. That final rule supported policy changes to require the electronic transmission of customs data prior to mailing in a greater range of circumstances. Electronic transmission of customs data enables the Postal Service and other federal agencies to ensure mailers' compliance with federal export requirements. Effective November 5, 2012, the same requirements will also apply to the following classes of mail when the item bears a PS Form 2976, Customs Declaration CN 22—Sender's Declaration:

First-Class Mail International®.

Airmail M-bags™.

International Priority Airmail™ (IPA®), including IPA M-bags.

International Surface Air Lift® (ISAL®), including ISAL M-bags.

With this change, customs data must be electronically transmitted before a mailer can enter any mailpiece bearing a customs declaration at a BMEU. This update will assist the Postal Service and other federal agencies to monitor mailers' compliance with federal export regulations that, among other things, prohibit certain goods from being sent to persons, entities, or countries determined to be adverse to U.S. interests. Data required to be transmitted includes the sender's name and address, the addressee's name and address, details about the item's contents, and the date of mailing. In addition, for IPA and ISAL mailings prepared in direct country sacks, we will require mailers to generate a receptacle barcode that includes the shipment date and permit number. To comply with these standards, mailers must electronically transmit customs data by using USPS-produced Global Shipping Software (GSS) or other USPS-approved software. To request information about either of these software solutions, send an email to globalbusinesssales@usps.gov.

Finally, with this change, the Postal Service is reducing the current 5-pound minimum to 3 pounds for mailers preparing IPA and ISAL direct country sacks. This change will make it easier for mailers to qualify for the lower direct country sack price—currently, when there is less than 5 pounds of mail sent to an individual country, these sacks can only qualify for the mixed country sack price, or the worldwide nonpresort price. In addition, for mailers who currently commingle items bearing customs forms with items that do not have customs forms (in direct country sacks), this lower limit will assist mailers in preparing separate sacks for items bearing a customs form, effective November 5, 2012.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

2 Conditions for Mailing

* * * * *

240 First-Class Mail International

* * * * *

243 Prices and Postage Payment Methods

* * * * *

243.3 Permit Imprint—General

[Revise 243.3 to read as follows:]

Mailers may use a permit imprint for mailing identical- or nonidentical-weight First-Class Mail International items. Any of the First-Class Mail International permit imprint formats shown in Exhibit 152.44 are acceptable. Permit imprints must not denote “bulk mail”, “nonprofit”, or other domestic or special mail markings. For items requiring a customs form, mailers must also meet the following requirements:

a. Pay for postage with a permit imprint through an advance deposit account.

b. Nonidentical-weight items must meet the permit imprint requirements under IMM 152.4 and the manifesting requirements under DMM 604 and DMM 705.

In addition, for items requiring PS Form 2976 (see Exhibit 123.61), mailers must electronically transmit customs data by using USPS-produced Global Shipping Software (GSS) or other USPS-approved software. To request information about either of these software solutions, send an email to globalbusinesssales@usps.gov.

* * * * *

260 Direct Sacks of Printed Matter to One Addressee (M-bags)

* * * * *

264 Mail Preparation

* * * * *

264.3 Customs Forms Required

[Revise 264.3 to read as follows:]

M-bags must be accompanied by a fully completed PS Form 2976, which is to be affixed to PS Tag 158, M-bag Addressee Tag. The maximum allowable value is $400. When paying with a permit imprint, mailers must electronically transmit customs data by using USPS-produced Global Shipping Software (GSS) or other USPS-approved software. To request information about either of these software solutions, send an email to globalbusinesssales@usps.gov.

* * * * *

290 Commercial Services

* * * * *

292 International Priority Airmail (IPA) Service

292.1 Description

* * * * *

292.13 IPA M-bags

[Delete the current text from 292.13 and insert new 292.131 and 292.132 to read as follows:]

292.131 IPA M-bags—General

IPA M-bags (direct sacks of printed matter to one addressee) may be entered in conjunction with an IPA mailing, are subject to the provisions of 260, and may be sent to all destination countries that are referenced in Exhibit 292.452. When using this method of mail preparation, the sender must complete PS Tag 115, International Priority Airmail, and PS Tag 158, M-bag Addressee Tag. Tags must be securely attached to the neck of the sack.

292.132 IPA M-bags—Customs Forms

IPA M-bags always require a fully completed PS Form 2976, which is to be affixed to PS Tag 158. Mailers must electronically transmit customs data by using USPS-produced Global Shipping Software (GSS) or other USPS-approved software. To request information about either of these software solutions, send an email to globalbusinesssales@usps.gov.

292.2 Eligibility

* * * * *

292.23 Minimum Quantity Requirements

* * * * *

292.232 Presort Eligibility—Full Service

[Revise 292.232 to read as follows:]

Only a direct country sack containing a minimum of 3 pounds qualifies for the presort price. All remaining mail must be prepared and paid at the worldwide nonpresort price.

292.233 Presort Eligibility—ISC Drop Shipment

[Revise 292.233 to read as follows:]

Only a direct country sack containing a minimum of 3 pounds or a mixed country sack containing a minimum of 5 pounds qualifies for the presort price. All remaining mail must be prepared and paid at the worldwide nonpresort price.

* * * * *

292.25 Customs Forms Requirements

[Revise 292.25 to read as follows:]

For items requiring a PS Form 2976 (see 123.61), mailers must electronically transmit customs data by using USPS-produced Global Shipping Software (GSS) or other USPS-approved software. To request information about either of these software solutions, send an email to globalbusinesssales@usps.gov.

* * * * *

292.4 Mail Preparation

* * * * *

292.44 Physical Characteristics and Requirements for All Bundles

* * * * *

[After item d, insert a “Note” to read as follows:]

Note: Parcel-size pieces do not require bundling.

292.45 Sortation

292.451 Presort Mailings—General

[Revise 292.451 in its entirety to read as follows:]

Follow these steps when preparing IPA presort mail:

a. Full Service.

1. Mail that is addressed to an individual country and that contains 3 pounds or more must be sorted into direct country sacks. Mail that cannot be made up into direct country sacks must be prepared and entered at the worldwide nonpresort price. Mailers must bundle letter-size and flat-size pieces as defined in 292.44. Letters and flats must be bundled separately, although nonidentical pieces may be commingled within each of these categories. Parcel-size pieces that cannot be bundled because of their physical characteristics must be placed loose in the sack.

2. Mailers must sack separately, items bearing customs forms from items not bearing customs forms. Each type of sack must individually meet the 3-pound minimum to qualify.

b. ISC Drop Shipment—Direct country sacks.

1. Mail that is addressed to an individual country and that contains 3 pounds or more must be sorted into direct country sacks. Mail that cannot be made up into direct country sacks must be prepared and entered at the mixed country or worldwide nonpresort price. Mailers must bundle letter-size and flat-size pieces as defined in 292.44. Letters and flats must be bundled separately, although nonidentical pieces may be commingled within each of these categories. Parcel-size pieces that cannot be bundled because of their physical characteristics must be placed loose in the sack.

2. Mailers must sack separately items bearing customs forms from items not bearing customs forms. Each type of sack must individually meet the 3-pound minimum to qualify.

c. ISC Drop Shipment—Mixed country sacks. Mixed county sacks can be prepared only after all possible direct country sacks have been prepared. Only countries in price groups 11-15 are eligible for mixed country sack pricing. Mailers must sort individual countries within a single price group that contain 5 pounds or more into mixed country sacks. Mail that ultimately cannot be made up into direct country sacks or mixed country sacks must be prepared and entered at the worldwide nonpresort price. Mailers must bundle letter-size and flat-size pieces as defined in 292.44. Letters and flats must be bundled separately, although nonidentical pieces may be commingled within each of these categories. Parcel-size pieces that cannot be bundled because of their physical characteristics must be placed loose in the sack.

Note: There are separate preparation requirements for mail to Canada. See 292.47.

292.452 Presorted Mail—Direct Country Bundle Label

[Revise the first sentence of 292.452 to read as follows:]

Only letter-size and flat-size direct country bundles prepared for mixed country sacks require a label (facing slip).* * *

* * * * *

292.453 Worldwide Nonpresort Mail—Bundles

* * * * *

[Revise 292.453 to read as follows:]

Mailers must bundle letter-size and flat-size pieces as defined in 292.44. Letters and flats must be bundled separately, although nonidentical pieces may be commingled within each of these categories. Parcel-size pieces that cannot be bundled because of their physical characteristics must be placed loose in the sack. Labels (facing slips) are not required on any bundles.

292.46 Sacking Requirements

[Revise the title to 292.461 to read as follows:]

292.461 Direct Country Sack (3 Pounds or More)

* * * * *

The following standards apply:

[Revise 292.461a and b(1) to read as follows (note that we have used bold text in this article to indicate revised text, but the text in the actual revised IMM will not appear in bold):]

a. General. Mailers must sack separately, items bearing customs forms from items not bearing customs forms. When there are 3 pounds or more of mail addressed to the same country, the mail must be enclosed in a direct country sack. All types of mail, including letter-size bundles, flat-size bundles, and loose items, can be commingled in the same sack for each destination and counted toward the 3-pound minimum, provided items bearing a customs form are sacked separately from items not bearing customs forms. The maximum weight of the sack and contents must not exceed 66 pounds.

b. Direct Country Sack Tags. For each direct country sack, the mailer must do the following:

1. Complete PS Tag 178, Airmail Bag Label LC (CN 35/AV 8) (white), which is a white tag designed to route the sack to a specific country. The mailer must complete the “To” block showing the destination country and the foreign office of exchange code as listed in Exhibit 292.452. In addition, mailers must apply to the tag a barcode that indicates the mailer's permit number, the product code, the service type code, the receptacle type, the destination office of exchange, and the serial number of the sack. To request technical specifications for the barcode, send, an email to globalbusinesssales@usps.gov. Postal Service personnel—not the mailer—must complete the blocks for date, weight, and dispatch information.

* * * * *

292.47 Mail Preparation for Canada

[Revise the intro and items a and b of 292.47 to read as follows (note that we have used bold text in this article to indicate revised text, but the text in the actual revised IMM will not appear in bold):]

Mailers must sack separately, items bearing customs forms from items not bearing customs forms. Mailers must prepare letter-size, flat-size, and package-size items destined to Canada in separate containers as defined in items a through c. To qualify for the presort price, the same eligibility requirements apply as for full service (see 292.232) or ISC drop shipment (see 292.233). If the total mailing contains less than 3 pounds of mail for Canada, then the mail qualifies only for the worldwide nonpresort price but may be included with mail for other countries. Mailings that exclusively contain worldwide nonpresort mail to Canada have a 50-pound minimum, and mailers must prepare them under 292.453 and 292.463. Mailers must prepare presorted IPA mail (full-service price and ISC drop shipment price) to Canada as follows:

a. Letter-Size and Flat-Size Mail. Prepare letter-size items in letter trays, either 1-foot or 2-foot, depending on volume. Prepare flat-size items in flat trays. Face all letter-size items and flat-size items in the same direction. Ensure that all trays are full enough to keep the mail from mixing during transportation. Cover (i.e., “sleeve”) all letter-size and flat-size trays and secure them with strapping. Do not prepare the content of trays in bundles. In addition, the mailer must complete PS Tag 115, International Priority Airmail, must write “Canada” on the front side of the tag, and must tape the tag to the tray sleeve. In addition, mailers must apply to the tag a barcode that indicates the mailer's permit number, the product code, the service type code, the receptacle type, the destination office of exchange, and the serial number of the tray. To request technical specifications for the barcode, send an email to globalbusinesssales@usps.gov.

b. Packages. Prepare package-size items (i.e., items that cannot be prepared in trays because of their size or shape) loose in sacks. Affix PS Tag 178, Airmail Bag Label LC (CN 35/AV 8) (white), to the neck of the sack and write Canada in the “To” block of the tag. In addition, affix PS Tag 115, International Priority Airmail, to the neck of the sack and write “Canada” on the back of the tag. In addition, mailers must apply to the tag a barcode that indicates the mailer's permit number, the product code, the service type code, the receptacle type, the destination office of exchange, and the serial number of the sack. To request technical specifications for the barcode, send an email to globalbusinesssales@usps.gov.

* * * * *

293 International Surface Air Lift (ISAL) Service

293.1 Description

* * * * *

293.13 ISAL M-bags

[Delete the current text from 293.13 and insert new items 293.131 and 293.132 to read as follows:]

293.131 ISAL M-bags—General

ISAL M-bags (direct sacks of printed matter to one addressee) may be entered in conjunction with an ISAL mailing, are subject to the provisions of 260, and may be sent to all destination countries that are referenced in Exhibit 293.452. When using this method of mail preparation, the sender must complete PS Tag 155, Surface Airlift Mail, and PS Tag 158, M-bag Addressee Tag. Tags must be securely attached to the neck of the sack.

293.132 ISAL M-bags—Customs Forms

ISAL M-bags always require a fully completed PS Form 2976, which is to be affixed to PS Tag 158. Mailers must electronically transmit customs data by using USPS-produced Global Shipping Software (GSS) or other USPS-approved software. To request information about either of these software solutions, send an email to globalbusinesssales@usps.gov.

293.2 Eligibility

* * * * *

293.23 Minimum Quantity Requirements

* * * * *

293.232 Presort Eligibility—Full Service

[Revise 293.232 to read as follows:]

Only a direct country sack containing a minimum of 3 pounds qualifies for the presort price. All remaining mail must be prepared and paid at the worldwide nonpresort price.

293.233 Presort Eligibility—ISC Drop Shipment

[Revise 293.233 to read as follows:]

Only a direct country sack containing a minimum of 3 pounds or a mixed country sack containing a minimum of 5 pounds qualifies for the presort price. All remaining mail must be prepared and paid at the worldwide nonpresort price.

* * * * *

293.25 Customs Forms Requirements

[Revise 293.25 to read as follows:]

For items requiring a customs form (see 123.61), mailers must electronically transmit customs data by using USPS-produced Global Shipping Software (GSS) or other USPS-approved software. To request information about either of these software solutions, send an email to globalbusinesssales@usps.gov.

* * * * *

293.4 Mail Preparation

* * * * *

293.44 Physical Characteristics and Requirements for All Bundles

The following standards apply:

* * * * *

[After item d, insert a “Note” to read as follows:]

Note: Parcel-size pieces do not require bundling.

293.45 Sortation

293.451 Presort Mailings—General

[Revise 293.451 in its entirety to read as follows:]

Follow these steps when preparing ISAL presort mail:

a. Full Service.

1. Mail that is addressed to an individual country and that contains 3 pounds or more must be sorted into direct country sacks. Mail that cannot be made up into direct country sacks must be prepared and entered at the worldwide nonpresort price. Mailers must bundle letter-size and flat-size pieces as defined in 293.44. Letters and flats must be bundled separately, although nonidentical pieces may be commingled within each of these categories. Parcel-size pieces that cannot be bundled because of their physical characteristics must be placed loose in the sack.

2. Mailers must sack separately items bearing customs forms from items not bearing customs forms. Each type of sack must individually meet the 3-pound minimum to qualify.

b. ISC Drop Shipment—Direct country sacks.

1. Mail that is addressed to an individual country and that contains 3 pounds or more must be sorted into direct country sacks. Mail that cannot be made up into direct country sacks must be prepared and entered at the mixed country or worldwide nonpresort price. Mailers must bundle letter-size and flat-size pieces as defined in 293.44. Letters and flats must be bundled separately, although nonidentical pieces may be commingled within each of these categories. Parcel-size pieces that cannot be bundled because of their physical characteristics must be placed loose in the sack.

2. Mailers must sack separately items bearing customs forms from items not bearing customs forms. Each type of sack must individually meet the 3-pound minimum to qualify.

c. ISC Drop Shipment—Mixed country sacks. Mixed county sacks can be prepared only after all possible direct country sacks have been prepared. Only countries in price groups 11-15 are eligible for mixed country sack pricing. Mailers must sort individual countries within a single price group that contain 5 pounds or more into mixed country sacks. Mail that ultimately cannot be made up into direct country sacks or mixed country sacks must be prepared and entered at the worldwide nonpresort price. Mailers must bundle letter-size and flat-size pieces as defined in 293.44. Letters and flats must be bundled separately, although nonidentical pieces may be commingled within each of these categories. Parcel-size pieces that cannot be bundled because of their physical characteristics must be placed loose in the sack.

293.452 Presorted Mail—Direct Country Bundle Label

[Revise the first sentence of 293.452 to read as follows:]

Only letter-size and flat-size direct country bundles prepared for mixed country sacks require a label (facing slip). * * *

* * * * *

293.453 Worldwide Nonpresort Mail—Bundles

* * * * *

[Revise 293.453 to read as follows:]

Mailers must bundle letter-size and flat-size pieces as defined in 293.44. Letters and flats must be bundled separately, although nonidentical pieces may be commingled within each of these categories. Parcel-size pieces that cannot be bundled because of their physical characteristics must be placed loose in the sack. Labels (facing slips) are not required on any bundles.

293.46 Sacking Requirements

[Revise the title to 293.461 to read as follows:]

293.461 Direct Country Sack (3 Pounds or More)

The following standards apply:

* * * * *

[Revise items 293.461a and b(1) to read as follows (note that we have used bold text in this article to indicate revised text, but the text in the actual revised IMM will not appear in bold):]

a. General. Mailers must sack separately, items bearing customs forms from items not bearing customs forms. When there are 3 pounds or more of mail addressed to the same country, the mail must be enclosed in a direct country sack. All types of mail, including letter-size bundles, flat-size bundles, and loose items, can be commingled in the same sack for each destination and counted toward the 3-pound minimum, provided items bearing a customs form are sacked separately from items not bearing customs forms. The maximum weight of the sack and contents must not exceed 66 pounds.

b. Direct Country Sack Tags. For each direct country sack, the mailer must do the following:

1. Complete both sides of PS Tag 155, Surface Airlift Mail, which identifies the mail to ensure it receives priority handling. On the front of the tag, the mailer must identify the destination country and the foreign office of exchange code as listed in Exhibit 293.452. On the back of the tag, the mailer must specify the price group as listed in Exhibit 293.452. In addition, mailers must apply to the tag a barcode that indicates the mailer's permit number, the product code, the service type code, the receptacle type, the destination office of exchange, and the serial number of the sack. To request technical specifications for the barcode, send an email to globalbusinesssales@usps.gov.

* * * * *

We will publish an amendment to 39 CFR part 20 to reflect these changes.

Stanley F. Mires,
Attorney, Legal Policy & Legislative Advice.

[FR Doc. 2012-20583 Filed 8-22-12; 8:45 am]

BILLING CODE 7710-12-P